DEPARTMENT OF STATE

[Public Notice: 6877]

Invitation for Recommendations for U.S. Authors and Reviewers to the Fifth Assessment Report of the Intergovernmental Panel on Climate Change (IPCC)

ACTION: Invitation for recommendations for U.S. authors and reviewers to the Fifth Assessment Report of the Intergovernmental Panel on Climate Change (IPCC).

SUMMARY: The U.S. Department of State invites recommendations for qualified U.S. experts to serve as authors or reviewers of the Fifth Assessment Report of the Intergovernmental Panel on Climate Change (IPCC), which will be developed and finalized over the coming four years.

DATES: Qualified U.S. experts wishing to be considered for nomination should submit an electronic application and supporting material conforming to the information specified at http://www.globalchange.gov by February 15th, 2010.

SUPPLEMENTARY INFORMATION: The IPCC is an intergovernmental body that oversees the development of assessments on the state of knowledge on climate change by scientific and technical experts. In order to fulfill this role, the IPCC produces comprehensive assessment reports at regular intervals on major aspects of climate change and responses to it. These reports have been widely used as key references for the state of knowledge on climate change, including in international climate discussions under the United Nations Framework Convention on Climate Change (UNFCCC). The United States has played a leading role in the IPCC since its inception, through official contributions and key leadership positions in IPCC report development, as well as through the contributions of many U.S. scientist and experts to the reports themselves. The Fourth Assessment Report was completed in November 2007.

Over 100 governments and organizations participate in the IPCC process that oversees the development of the comprehensive assessments. Governments develop and approve plans for reports, and nominate experts as lead authors and reviewers. Draft reports go through reviews by experts and governments, and IPCC member governments accept each final report, and approve their executive summaries (known as a “summary for policy makers”) in a formal session of the IPCC. Three volumes are prepared under the auspices of three working groups. Working Group I assesses the scientific aspects of the climate system and climate change; Working Group II assesses the vulnerability of socio-economic and natural systems to climate change, negative and positive consequences of climate change, and options for adapting to it; and Working Group III assesses options for limiting greenhouse gas emissions and otherwise mitigating climate change. A fourth, shorter volume synthesizes the material found in the three working group volumes. IPCC reports are prepared by author teams consisting of scientists and technical experts according to agreed principles and procedures, which specify the responsibilities of authors and reviewers in the development of IPCC reports. Copies of completed reports, as well as the IPCC's principles and procedures and related information, can be found at http://www.ipcc.ch.

At the 31st session of the IPCC (Bali—26-29 October, 2009), delegates accepted the overall outline and the work program for the Fifth Assessment Report. Volumes of the report will be finalized in 2013 and 2014. The IPCC has formally requested that governments and participating organizations nominate experts to serve as lead authors and reviewers of the various chapters of the report. To respond to this request, the U.S. Government is soliciting recommendations from any interested Federal, academic, non-governmental, or private sector entity. The U.S. government will review proposed nominations and develop a slate of nominees for forwarding to IPCC. Given the large number of individuals that are typically nominated by different member countries of the IPCC, selection as a U.S. nomination does not guarantee selection as an IPCC author.

Further information, including the IPCC request for nominations, the approved outlines of the three IPCC working groups for the AR5, a description of the roles and responsibilities associated with them, and a nomination form that must be completed for each nominee, may be found at either the IPCC Secretariat Web site (http://www.ipcc.ch) or USGCRP Web site (http://www.globalchange.gov/)

Dated: January 15, 2010.
Trigg Talley,
Director, Office of Global Change, Department of State.

[FR Doc. 2010-1098 Filed 1-20-10; 8:45 am]

BILLING CODE 4710-09-P